NATIONAL CREDIT UNION ADMINISTRATION

Sunshine Act: Notice of Agency Meeting

TIME AND DATE: 3:30 p.m., Wednesday, June 21, 2017.

PLACE: Board Room, 7th Floor, Room 7047, 1775 Duke Street, Alexandria, VA 22314-3428.

STATUS: Closed.

MATTERS TO BE CONSIDERED:

1. Appeal of Denial of Official. Closed pursuant to Exemptions (6), and (8).

2. Supervisory Action. Closed pursuant to Exemptions (8), (9)(i)(B), and (9)(ii).

3. Supervisory Action. Closed pursuant to Exemptions (8), (9)(i)(B), and (9)(ii).

4. Supervisory Action. Closed pursuant to Exemptions (8), (9)(i)(B), and (9)(ii).

FOR FURTHER INFORMATION CONTACT: Gerard Poliquin, Secretary of the Board, Telephone: 703-518-6304.

Gerard Poliquin,
Secretary of the Board.

[FR Doc. 2017-12650 Filed 6-14-17; 4:15 pm]

BILLING CODE 7535-01-P